DEPARTMENT OF LABOR

Office of the Secretary

Submission for OMB Review; Comment Request

July 2, 2003.

The Department of Labor (DOL) has submitted the following public information collection requests (ICR's) to the Office of Management and Budget (OMB) for review and approval in accordance with the Paperwork Reduction Act of 1995 (Pub. L. 104-13, 44 U.S.C. Chapter 35). A copy of these ICR's, with applicable supporting documentation, may be obtained by calling the Department of Labor. To obtain documentation, contact Vanessa Reeves on 202-693-4124 (this is not a toll-free number) or E-mail: reeves.vanessa2@dol.gov.

Comments should be sent to Office of Information and Regulatory Affairs, Attn: OMB Desk Officer for the Mine Safety and Health Administration (MSHA), Office of Management and Budget, Room 10235, Washington, DC 20503 (202-395-7316 / this is not a toll-free number), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Agency: Mine Safety and Health Administration.

Type of Review: Extension of currently approved collection.

Title: Underground Retorts.

OMB Number: 1219-0096.

Affected Public: Business or other for-profit.

Frequency: On occasion.

Type of Response: Reporting.

Number of Respondents: 1.

Number of Annual Responses: 1.

Estimated Time Per Response: 160 hours.

Total Burden Hours: 160.

Total Annualized capital/startup costs: $0.

Total annual costs (operating/maintaining systems or purchasing services): $0.

Description: 30 CFR Section 57.22401 pertains to safety requirements to be followed by mine operators in the use of underground retorts to extract oil from shale by heat or fire. Prior to ignition of retorts, the mine operator must submit a written plan indicating the acceptable levels of combustible gases and oxygen; specifications and location of off-gas monitoring procedures and equipment; procedures for ignition of retorts and details of area monitoring and alarm systems for hazardous gases and actions to be taken to assure the safety of miners.

Agency: Mine Safety and Health Administration.

Type of Review: Extension of a currently approved collection.

Title: Product Testing by Applicant or Third Party.

OMB Number: 1219-0100.

Affected Public: Business or other for-profit.

Frequency: On occasion.

Type of Response: Recordkeeping and Reporting.

Number of Respondents: 197

Information collection requirements | Annual responses | Average response time (hours) | Annual burden hours
Applications under Subpart B:
New Application for Brattice Cloth and Ventilation Tubing | 5 | 5.00 | 25
Application for Extension for Brattice Cloth and Ventilation Tubing | 4 | 5.00 | 20
Reporting products not in accordance with approved specifications | 25 | 0.25 | 6
Subtotal, Subpart B | 34 |  | 51
Applications under Subpart C:
New Application for Battery Approval | 1 | 4.00 | 4
Application for Extension | 1 | 4.00 | 4
RAMP Application | 5 | 2.00 | 10
Reporting products not in accordance with approved specifications | 16 | 0.25 | 4
Develop Checklist | 16 | 2.00 | 32
Subtotal, Subpart C | 39 |  | 54
Applications under Subpart D:
New Application for Brattice Cloth and Ventilation Tubing | 1 | 4.00 | 4
Application for Extension for Brattice Cloth and Ventilation Tubing | 1 | 2.00 | 2
Reporting products not in accordance with approved specifications | 4 | 0.25 | 1
Develop Checklist | 4 | 2.00 | 8
Subtotal, Subpart D | 10 |  | 15
Applications under Subpart J:
New Application | 11 | 8.00 | 88
Application for Extension | 6 | 6.00 | 36
RAMP Application | 22 | 2.00 | 44
Reporting products not in accordance with approved specifications | 14 | 0.25 | 4
Subtotal, Subpart J | 53 |  | 172
Applications under Subpart K:
New Application for Cable Approval | 14 | 5.00 | 70
Application for Extension for Cable Approval | 6 | 6.00 | 36
Application for Extension for Splice Kit Approval | 1 | 6.00 | 6
Extension for Splice Kit Approval | 1 | 7.00 | 7
Reporting products not in accordance with approved specifications | 39 | 0.25 | 10
Subtotal, Subpart K | 61 |  | 129
Total | 197 |  | 421

Total Annualized capital/startup costs: $0.

Total annual costs (operating/maintaining systems or purchasing services): $58,429.

Description: 30 CFR part 7 subparts A through D, and subparts J and K provide procedures whereby products may be tested and certified by the applicant or a third party. Section 318 of the Federal Mine Safety and Health Act of 1977, 30 U.S.C. 878, defines “permissible” equipment as that which has been approved according to specifications which are prescribed by the Secretary of Labor. This approval indicates that the Mine Safety and Health Administration's specifications and tests, designed to ensure that a product will not present a fire, explosion, or other specific safety hazard related to use, have been met.

Darrin A. King,
Acting Departmental Clearance Officer.

[FR Doc. 03-17323 Filed 7-8-03; 8:45 am]

BILLING CODE 4510-43-P